DEPARTMENT OF ENERGY

Federal Energy Regulatory Commission

[Docket No. RP00-626-002]

Transwestern Pipeline Company; Notice of Compliance Filing

March 29, 2001.

Take notice that on March 26, 2001, Transwestern Pipeline Company (Transwestern), tendered for filing as part of its FERC Gas Tariff, Second Revised Volume No. 1, the following tariff sheet proposed to be effective January 1, 2001:

Substitute Original No. Sheet No. 99

Transwestern states that this filing is in compliance with the Commission's March 14, 2001 Order whereby Transwestern was directed to either file an explanation justifying the alleged application of transportation and fuel charges to the netting and trading of imbalances, or eliminate such language from the proposed tariff.

Transwestern further states that copies of the filing have been mailed to each of its customers and interested State Commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions of the Commission's web site at http://www.ferc.fed.us/efi/doorbell.htm.

David P. Boergers,
Secretary.

[FR Doc. 01-8255 Filed 4-3-01; 8:45 am]

BILLING CODE 6717-01-M